FEDERAL RESERVE SYSTEM

Change in Bank Control Notices, Acquisition of Shares of Bank or Bank Holding Companies; Correction

This notice corrects a notice (FR Doc. 05-13519) published on pages 39775-39776 for the issue for Monday, July 11, 2005.

Under the Federal Reserve Bank of St. Louis heading, the entry for Charles Hardcastle, Bowling Green, Kentucky, is revised to read as follows:

A. Federal Reserve Bank of St. Louis (Glenda Wilson, Community Affairs Officer) 411 Locust Street, St. Louis, Missouri 63166-2034:

1. Charles Anderson Hardcastle, Bowling Green, Kentucky, individually and as a member of the Hardcastle Control Group, which also includes Carolyn Hardcastle, Bowling Green, Kentucky; Colleen Hardcastle, Oakland, New Jersey; Cheryl Anderson; Patrick Anderson; Laura Anderson; and Erin Anderson; all of Lexington, Kentucky; to acquire voting shares of Citizens First Corporation, Bowling Green, Kentucky, and thereby indirectly acquire Citizens First Bank, Bowling Green, Kentucky.

Comments on this application must be received by July 25, 2005.

Board of Governors of the Federal Reserve System, July 13, 2005.
Robert deV. Frierson,
Deputy Secretary of the Board.

[FR Doc. 05-14168 Filed 7-18-05; 8:45 am]

BILLING CODE 6210-01-S